DEPARTMENT OF THE INTERIOR

National Park Service

[2310-0070-422]

Winter Use Plan, Supplemental Environmental Impact Statement, Yellowstone National Park, Idaho, Montana, and Wyoming

AGENCY: National Park Service, Interior.

ACTION: Notice of intent to prepare a Supplemental Environmental Impact Statement for the Winter Use Plan, Yellowstone National Park.

SUMMARY: Pursuant to the National Environmental Policy Act of 1969, the National Park Service (NPS) is preparing a supplemental Environmental Impact Statement (SEIS) for a Winter Use Plan for Yellowstone National Park, located in Idaho, Montana and Wyoming.

The preparation of a SEIS is deemed necessary to further the purposes of the National Environmental Policy Act (NEPA). The purposes of NEPA would be furthered by allowing NPS to consider additional data and revise some assumptions in the EIS, prior to making a long-term management decision.

DATES: The National Park Service will accept comments from the public for 30 days from the date that this Notice is published in the Federal Register. NPS intends to hold public scoping meetings in Cody, WY, on February 13; Jackson, WY, on February 14; West Yellowstone, MT, on February 15; and Bozeman, MT, on February 16. Each meeting will be held from 6:30 p.m. to 8:30 p.m. Additional information, including meeting locations, can be found at http://parkplanning.nps.gov/YELL (click on the link to the 2012 Supplemental Winter Use Plan EIS, then on the “Meeting Notices” link).

ADDRESSES: Information will be available for public review and comment online at http://parkplanning.nps.gov/YELL (click on the link to the 2012 Supplemental Winter Use Plan EIS), and at Yellowstone National Park headquarters, Mammoth Hot Springs, WY.

FOR FURTHER INFORMATION CONTACT: Wade Vagias, P.O. Box 168, Yellowstone National Park, WY 82190, (307) 344-2035.

SUPPLEMENTARY INFORMATION: In January 2010, the NPS began public scoping for a long-term plan/EIS to manage winter use at Yellowstone National Park. A Draft EIS was released in May 2011 for a 60-day review and comment period, with NPS receiving more than 59,000 comments. Some of these comments raised additional questions as to long-term effects and options for winter use.

In order to make a reasoned, sustainable long-term decision, the NPS determined it needed additional time to update its analyses. As a result, in November 2011, NPS released a Final EIS with a preferred alternative applicable only for the 2011/2012 winter season, for which the park would operate under the same rules and restrictions in place during the previous two seasons. In December 2011, a Record of Decision and Final Regulation implementing the preferred alternative were issued. After the end of the current winter use season on March 15, 2012, no motorized oversnow vehicle use can be allowed in the park unless a new regulation is issued.

A SEIS is needed at this time so that NPS can consider additional information. Substantial new issues to be addressed include: air quality and sound modeling, adaptive management, opportunities for non-commercially guided access, best available technology for snowcoaches, and the operation of Sylvan Pass.

The purpose and need for action remain the same for the SEIS as they were in the Final EIS. Although the general scope of analysis remains the same as the Final EIS, NPS expects that the SEIS will focus primarily on the substantial new information and issues that were raised during the Draft EIS comment period, as well as any other substantial new information or issues that are raised. Based upon impact analysis and public comments received on the Draft EIS, NPS anticipates removing Alternatives 3 and 6, as presented in the Final EIS, from the reasonable range of alternatives that will be analyzed in detail in the SEIS. NPS anticipates that there may also be minor changes to the remaining alternatives, as presented in the Final EIS. NPS intends to evaluate at least one alternative that manages snowmobile and snowcoach use based on sound events, rather than numbers alone. The no-action alternative will remain the same as it was in the Final EIS. Under that alternative, no motorized oversnow vehicle use would be allowed in the park after March 15, 2012. A copy of the Final EIS and additional information regarding the preliminary range of alternatives and the objectives of the SEIS can be found at http://parkplanning.nps.gov/YELL (click on the link to the 2012 Supplemental Winter Use Plan EIS).

As stated above, NPS received more than 59,000 comments on the Draft EIS. Many of those comments were addressed in the Final EIS, and the NPS has committed to addressing the remaining comments in this SEIS. Therefore, there is no need to submit duplicate or similar comments during this scoping period. However, if you wish to comment on the purpose, need, objectives, alternatives, or on any other issues associated with the plan, you may submit your comments by any one of several methods.

You are encouraged to comment via the Internet at http://parkplanning.nps.gov/YELL (click on the link to the 2012 Supplemental Winter Use Plan EIS). You may also comment by mail to Yellowstone National Park, Winter Use Supplemental EIS, P.O. Box 168, Yellowstone NP, WY 82190. In addition, you may hand deliver your comments to the Management Assistant's Office, Headquarters Building, Mammoth Hot Springs, Yellowstone National Park, WY. Finally, you may submit comments at any of the public scoping meetings.

Comments will not be accepted by fax, email, or in any other way than those specified above. Bulk comments in any format (hard copy or electronic) submitted on behalf of others will not be accepted. Before including your address, phone number, email address, or other personal identifying information in your comment, you should be aware that your entire comment—including your personal identifying information—may be made publicly available at any time. While you can ask us in your comment to withhold your personal identifying information from public review, we cannot guarantee that we will be able to do so.

Dated: January 6, 2012.
John Wessels,
Regional Director, Intermountain Region, National Park Service.

[FR Doc. 2012-2876 Filed 2-7-12; 8:45 am]

BILLING CODE 4312-CT-P